DEPARTMENT OF HOMELAND SECURITY

Coast Guard

33 CFR Part 117

[Docket No. USCG-2014-0100]

Drawbridge Operation Regulation; New Jersey Intracoastal Waterway (NJICW), Grassy Sound Channel, NJ

AGENCY: Coast Guard, DHS.

ACTION: Notice of deviation from drawbridge regulation.

SUMMARY: The Coast Guard has issued a temporary deviation from the operating schedule that governs the State Route 47 (George Redding) Bridge across Grassy Sound Channel, NJICW mile 108.9, at Wildwood, NJ. This deviation allows the bridge to remain in the closed-to-navigation position while the safety barrier gates are being replaced.

DATES: This deviation is effective without actual notice from March 4, 2014 until 10 p.m. on March 8, 2014. For the purposes of enforcement, actual notice will be used from 6 a.m. on March 1, 2014, until March 4, 2014.

ADDRESSES: The docket for this deviation, [USCG-2014-0100] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Jessica Shea, Bridge Management Specialist, Fifth Coast Guard District, telephone: (757) 398-6422, Email: jessica.c.shea2@uscg.mil. If you have questions on viewing the docket, call Cheryl Collins, Program Manager, Docket Operations, telephone 202-366-9826.

SUPPLEMENTARY INFORMATION: The New Jersey Department of Transportation (NJDOT) owns and operates the State Route 47 (George Redding) bascule bridge across Grassy Sound Channel along the NJICW, mile 108.9, in Wildwood, NJ. The bridge has a vertical clearance in the closed position to vessels of 25 feet above mean high water. The current operating regulations are outlined at 33 CFR 117.5, which require the bridge to open when a request is made or signal to open is given.

NJDOT requested a temporary deviation to the existing regulations for the State Route 47 (George Redding) Bridge to facilitate necessary repairs. The repairs will consist of the replacement of bridge barrier gates. These gates prevent vehicles from driving across the bridge when it is in the open position. Under this deviation, the bascule spans of the drawbridge will be maintained in the closed-to-navigation position from 6 a.m. through 10 p.m. on March 1, 2014 and again from 6 a.m. through 10 p.m. on March 8, 2014.

The bridge will be able to open for emergencies during either of the closure periods. Vessels able to pass through the bridge in the closed position may do so at any time. The Atlantic Ocean is an alternate route for vessels with mast heights greater than 25 feet.

Bridge opening data, supplied by NJDOT, revealed that the bridge opened for vessels 20 and 30 times during the months of March 2012 and 2013 respectively. The majority of these opening requests occurred before 6 a.m.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 21, 2014.
Waverly W. Gregory, Jr.,
Bridge Program Manager, Fifth Coast Guard.

[FR Doc. 2014-04736 Filed 3-3-14; 8:45 am]

BILLING CODE 9110-04-P